Proclamation 8129 of April 20, 2007

National Day of Prayer, 2007

By the President of the United States of America

A Proclamation

A prayerful spirit has always been an important part of our national character, and it is a force that has guided the American people, given us strength, and sustained us in moments of joy and in times of challenge. On this National Day of Prayer, we acknowledge God's grace and ask for His continued guidance in the life of our Nation.

Americans of many faiths and traditions share a common belief that God hears the prayers of His children and shows grace to those who seek Him. Following the tragedy at Virginia Tech, in towns all across America, in houses of worship from every faith, Americans have joined together to pray for the lives that were lost and for their families, friends, and loved ones. We hold the victims in our hearts and pray for those who suffer and grieve. There is a power in these prayers, and we can find comfort in the grace and guidance of a loving God.

At this important time in our history, we also pray for the brave members of our Armed Forces and their families. We pray for their safety, for the recovery of the wounded, and for the peace we all seek.

The Congress, by Public Law 100-307, as amended, has called on our Nation to reaffirm the role of prayer in our society and to respect the freedom of religion by recognizing each year a “National Day of Prayer.”

NOW, THEREFORE, I, GEORGE W. BUSH, President of the United States of America, do hereby proclaim May 3, 2007, as a National Day of Prayer. I ask the citizens of our Nation to give thanks, each according to his or her own faith, for the freedoms and blessings we have received and for God's continued guidance, comfort, and protection. I invite all Americans to join in observing this day with appropriate programs, ceremonies, and activities.

IN WITNESS WHEREOF, I have hereunto set my hand this twentieth day of April, in the year of our Lord two thousand seven, and of the Independence of the United States of America the two hundred and thirty-first.

[FR Doc. 07-2059

Filed 4-23-07; 9:29 am]

Billing code 3195-01-P